DEPARTMENT OF COMMERCE

National Oceanic and Atmospheric Administration

50 CFR Part 648

[Docket No. 240318-0082]

RIN 0648-BM71

Magnuson-Stevens Fishery Conservation and Management Act Provisions; Fisheries of the Northeastern United States; Northeast Multispecies Fishery; Framework Adjustment 66

AGENCY: National Marine Fisheries Service (NMFS), National Oceanic and Atmospheric Administration (NOAA), Commerce.

ACTION: Proposed rule; request for comments.

SUMMARY: This action proposes to approve and implement Framework Adjustment 66 to the Northeast Multispecies Fishery Management Plan. This rule proposes to set catch limits for 8 of the 20 multispecies stocks, modify the accountability measure trigger for Atlantic halibut, and make a temporary modification to the accountability trigger for the scallop fishery for Georges Bank yellowtail flounder. This action is necessary to respond to updated scientific information and to achieve the goals and objectives of the fishery management plan. The proposed measures are intended to help prevent overfishing, rebuild overfished stocks, achieve optimum yield, and ensure that management measures are based on the best scientific information available.

DATES: Comments must be received by 5 p.m. EST on April 8, 2024.

ADDRESSES: You may submit comments, identified by NOAA-NMFS-2023-0153, by the following method:

• Electronic Submission: Submit all electronic public comments via the Federal e-Rulemaking Portal. Go to https://www.regulations.gov and type NOAA-NMFS-2023-0153 in the Search box (note: copying and pasting the FDMS Docket Number directly from this document may not yield search results). Click on the “Comment” icon, complete the required fields, and enter or attach your comments.

Instructions: Comments sent by any other method, to any other address or individual, or received after the end of the comment period, may not be considered. All comments received are a part of the public record and will generally be posted for public viewing on https://www.regulations.gov without change. All personal identifying information (e.g., name, address, etc.), confidential business information, or otherwise sensitive information submitted voluntarily by the sender will be publicly accessible. You may submit anonymous comments by entering “N/A” in the required fields if you wish to remain anonymous.

Copies of Framework Adjustment 66, including the draft Environmental Assessment, the Regulatory Impact Review, and the Regulatory Flexibility Act Analysis prepared by the New England Fishery Management Council in support of this action, are available from Dr. Cate O'Keefe, Executive Director, New England Fishery Management Council, 50 Water Street, Mill 2, Newburyport, MA 01950. The supporting documents are also accessible via the internet at: http://www.nefmc.org/management-plans/northeast-multispecies or http://www.regulations.gov.

FOR FURTHER INFORMATION CONTACT: Liz Sullivan, Fishery Policy Analyst, phone: 978-282-8493; email: Liz.Sullivan@noaa.gov.

SUPPLEMENTARY INFORMATION:

Summary of Proposed Measures

This action would implement the management measures in Framework Adjustment 66 to the Northeast Multispecies Fishery Management Plan (FMP). The New England Fishery Management Council reviewed the proposed regulations and deemed them consistent with, and necessary to implement, Framework 66 in a January 16, 2024, letter from Council Chairman Eric Reid to Regional Administrator Michael Pentony. Under the Magnuson-Stevens Fishery Conservation and Management Act, on behalf of the Secretary of Commerce, the Greater Atlantic Regional Fisheries Office's Regional Administrator approves, disapproves, or partially approves measures that the Council proposes, based on consistency with the Act and other applicable law. NMFS reviews proposed regulations for consistency with the fishery management plan, plan amendments, the Magnuson-Stevens Act and other applicable law. The Regional Administrator is seeking comments on these proposed regulations and intends to promulgate the final regulations after careful consideration of any submitted comments. Through Framework 66, the Council proposes to:

• Set shared U.S./Canada quotas for Georges Bank (GB) yellowtail flounder and eastern GB cod and haddock for fishing years 2024 and 2025;

• Set specifications, including catch limits for eight groundfish stocks: redfish, northern windowpane flounder, and southern windowpane flounder for fishing years 2024-2026, and GB cod, GB haddock, Gulf of Maine (GOM) haddock, GB yellowtail flounder, and white hake for fishing years 2024-2025;

• Make a minor adjustment to the subcomponent quotas for GOM cod and adjust the amount set aside for Canadian catch for Atlantic halibut;

• Remove the management uncertainty buffer for sectors for GOM haddock and white hake, if the at-sea monitoring (ASM) target coverage level is set at 90 percent or greater for the 2024 and 2025 fishing years;

• Modify the catch threshold for implementing the Atlantic halibut accountability measures (AM); and

• Temporarily modify the catch threshold for implementing the scallop fishery's AM for GB yellowtail flounder.

This action also proposes minor, clarifying regulatory changes that are not part of Framework 66, but that may be considered and implemented under section 305(d) authority in the Magnuson-Stevens Act to make changes necessary to carry out the FMP. NMFS is proposing these changes in conjunction with the Framework 66 proposed measures for expediency purposes. These proposed changes are described below under the heading, Minor, Clarifying Regulatory Changes under Secretarial Authority.

Fishing Years 2024 and 2025 Shared U.S./Canada Quotas

Management of Transboundary Georges Bank Stocks

Eastern GB cod, eastern GB haddock, and GB yellowtail flounder are jointly managed with Canada under the United States/Canada Resource Sharing Understanding. The Transboundary Resource Assessment Committee (TRAC) is the scientific arm of the Understanding and is tasked with assessing the shared stocks and providing information necessary to support management of shared resources by the Transboundary Management Guidance Committee (TMGC). The TMGC is a government-industry committee made up of representatives from the United States and Canada that acts to provide management guidance for U.S. and Canadian domestic management authorities. For historical information about the TMGC see: http://www.bio.gc.ca/info/intercol/tmgc-cogst/index-en.php. Each year, the TMGC recommends a shared quota for each stock based on the most recent stock information and the TMGC's harvest strategy. The TMGC's harvest strategy for setting catch levels is to maintain a low to neutral risk (less than 50 percent) of exceeding the fishing mortality limit for each stock. The harvest strategy also specifies that, when stock conditions are poor, fishing mortality should be further reduced to promote stock rebuilding. The shared quotas are allocated between the United States and Canada based on a formula that considers historical catch (10-percent weighting) and the current resource distribution (90-percent weighting).

For GB yellowtail flounder, the Council's Scientific and Statistical Committee (SSC) also recommends an acceptable biological catch (ABC) for the stock. The ABC is typically used to inform the U.S. TMGC's discussions with Canada for the annual shared quota. Although the stock is jointly managed with Canada, and the TMGC recommends annual shared quotas, the Council may not set catch limits that would exceed the SSC's recommendation. The SSC does not recommend ABCs for eastern GB cod and haddock because they are management units of the total GB cod and haddock stocks. The SSC recommends overall ABCs for the total GB cod and haddock stocks. The shared U.S./Canada quota for eastern GB cod and haddock is included in these overall ABCs, and must be consistent with the SSC's recommendation for the total GB stocks.

2024 and 2025 U.S./Canada Quotas

The TRAC assessed the three transboundary stocks in July 2023, and detailed summaries of these assessments can be found at: https://www.nefsc.noaa.gov/assessments/trac/. The TMGC met in September 2023 to recommend shared quotas for 2024 based on the updated assessments, the Council adopted the TMGC's recommendations in Framework 66. Framework 66 proposes to set the same shared quotas for a second year (i.e., for fishing year 2025) as placeholders, with the expectation that those quotas will be reviewed annually and new recommendations will be received from the TMGC. The proposed 2024 and 2025 shared U.S./Canada quotas, and each country's allocation, are listed in table 1.

Table 1—Proposed 2024 and 2025 Fishing Years U.S./Canada Quotas (mt, live weight) and Percent of Quota Allocated to Each Country
Quota | Eastern GB cod | Eastern GB haddock | GB yellowtail flounder
Total Shared Quota | 520 | 10,000 | 168.
U.S. Quota | 151 (29 percent) | 3,100 (31 percent) | 71 (42 percent).
Canadian Quota | 369 (71 percent) | 6,900 (69 percent) | 97 (58 percent).

The proposed 2024 U.S. quotas for the eastern GB cod and GB haddock would represent 12-percent and 104-percent increases, respectively, compared to 2023; the proposed GB yellowtail flounder would represent a 33-percent decrease. For a more detailed discussion of the TMGC's 2024 catch advice, including a description of each country's quota share, see the TMGC's guidance document that is posted at: https://www.greateratlantic.fisheries.noaa.gov/.

The regulations implementing the U.S./Canada Resource Sharing Understanding at 50 CFR 648.85(a) require deducting any overages of the U.S. quota for eastern GB cod, eastern GB haddock, or GB yellowtail flounder from the U.S. quota in the following fishing year. If catch information for the 2023 fishing year indicates that the U.S. fishery exceeded its quota for any of the shared stocks, we will reduce the respective U.S. quotas for the 2024 fishing year in a future management action, as close to May 1, 2024, as possible. If any fishery that is allocated a portion of the U.S. quota exceeds its allocation and causes an overage of the overall U.S. quota, the overage reduction would be applied only to that fishery's allocation in the following fishing year. This ensures that catch by one component of the overall fishery does not negatively affect another component of the overall fishery.

Catch Limits for Fishing Years 2024-2026

Summary of the Proposed Catch Limits

Tables 2 through 12 show the proposed catch limits for the 2024-2026 fishing years. A brief summary of how these catch limits were developed is provided below. More details on the proposed catch limits for each groundfish stock can be found in appendix II (Calculation of Northeast Multispecies Annual Catch Limits, FY 2024—FY 2026) to the Framework 66 Environmental Assessment (see ADDRESSES for information on how to get this document).

Through Framework 66, the Council proposes to adopt catch limits for redfish, northern windowpane flounder, and southern windowpane flounder for the 2024-2026 fishing years, based on stock assessments completed in 2023, and catch limits for GB cod, GB haddock, GOM haddock, GB yellowtail flounder, and white hake for fishing years 2024-2025. Framework 65 (86 FR 40353; July 28, 2021) previously set 2024 quotas for redfish, northern windowpane flounder, and southern windowpane flounder based on assessments conducted in 2020, and those would remain in place. Framework 63 (87 FR 42375; July 15, 2022) previously set the 2023-2024 quota for GOM cod, based on an assessment conducted in 2021, and that would also remain in place. Table 2 provides an overview of which catch limits, if any, would change, as proposed in Framework 66, as well as when the stock was most recently assessed. Table 3 provides the percent change in the 2024 catch limit compared to the 2023 fishing year.

Table 2—Changes to Catch Limits, as Proposed in Framework 66
Stock | Most recent assessment | Proposed change in Framework 66
GB Cod | 2021 | New 2024 U.S. ABC.
GOM Cod | 2021 | Adjust sub-components, 2024 catch limit set by Framework 63.
GB Haddock | 2022 | New 2024-2025 U.S. ABC.
GOM Haddock | 2022 | New 2024-2025 ABC.
GB Yellowtail Flounder | 2022 | New 2024-2025 ABC.
SNE/MA Yellowtail Flounder | 2022 | No change: 2024-2025 catch limits set by Framework 65.
CC/GOM Yellowtail Flounder | 2022 | No change: 2024-2025 catch limits set by Framework 65.
American Plaice | 2022 | No change: 2024-2025 catch limits set by Framework 65.
Witch Flounder | 2022 | No change: 2024-2025 catch limits set by Framework 65.
GB Winter Flounder | 2022 | No change: 2024-2025 catch limits set by Framework 65.
GOM Winter Flounder | 2022 | No change: 2024-2025 catch limits set by Framework 65.
SNE/MA Winter Flounder | 2022 | No change: 2024-2025 catch limits set by Framework 65.
Redfish | 2023 | New 2024-2026 ABC.
White Hake | 2022 | New 2024-2025 ABC.
Pollock | 2022 | No change: 2024-2025 catch limits set by Framework 65.
N. Windowpane Flounder | 2023 | New 2024-2026 ABC.
S. Windowpane Flounder | 2023 | New 2024-2026 ABC.
Ocean Pout | 2022 | No change: 2024-2025 catch limits set by Framework 65.
Atlantic Halibut | 2022 | Adjust Canadian catch estimate, 2024 catch limits set by Framework 65.
Atlantic Wolffish | 2022 | No change: 2024-2025 catch limits set by Framework 65.
N = northern; S = southern; SNE = Southern New England; MA = Mid-Atlantic.

Table 3—Proposed Fishing Years 2024-2026 Overfishing Limits and Acceptable Biological Catches
[mt, live weight]
Stock | 2024: OFL | 2024: U.S. ABC | Percent change from 2023 | 2025: OFL | 2025: U.S. ABC | 2026: OFL | 2026: U.S. ABC
GB Cod | UNK | 535 | 3 | UNK |  |  |
GOM Cod | 980 | 551 | 0 |  |  |  |
GB Haddock | 17,768 | 7,058 | −41 | 15,096 | 5,382 |  |
GOM Haddock | 2,651 | 2,406 | −4 | 2,549 | 2,312 |  |
GB Yellowtail Flounder | UNK | 71 | −33 | UNK | 71 |  |
SNE/MA Yellowtail Flounder | 89 | 40 | 0 | 345 | 40 |  |
CC/GOM Yellowtail Flounder | 1,279 | 992 | −11 | 1,184 | 915 |  |
American Plaice | 7,091 | 5,520 | −3 | 6,763 | 5,270 |  |
Witch Flounder | UNK | 1,256 | 0 | UNK | 1,256 |  |
GB Winter Flounder | 2,153 | 1,549 | −9 | 2,100 | 1,490 |  |
GOM Winter Flounder | 1,072 | 804 | 0 | 1,072 | 804 |  |
SNE/MA Winter Flounder | 1,425 | 627 | 0 | 1,536 | 627 |  |
Redfish | 11,041 | 8,307 | −17 | 10,982 | 8,273 | 11,177 | 8,418
White Hake | 2,607 | 1,934 | 5 | 2,591 | 1,921 |  |
Pollock | 18,208 | 13,940 | −7 | 17,384 | 13,294 |  |
N. Windowpane Flounder | UNK | 136 | −15 | UNK | 136 | UNK | 136
S. Windowpane Flounder | 284 | 213 | −45 | 284 | 213 | 284 | 213
Ocean Pout | 125 | 87 | 0 | 125 | 87 |  |
Atlantic Halibut | UNK | 78 | −9 | UNK | 78 |  |
Atlantic Wolffish | 124 | 93 | 0 | 124 | 93 |  |
UNK = Unknown.
Note: An empty cell indicates no overfishing limit (OFL)/ABC is adopted for that year. These catch limits would be set in a future action.

Overfishing Limits and Acceptable Biological Catches

The overfishing limit (OFL) is calculated to set the maximum amount of fish that can be caught in a year, without constituting overfishing. The ABC is typically set lower than the OFL to account for scientific uncertainty. For GB cod, GB haddock, and GB yellowtail flounder, the total ABC is reduced by the amount of the Canadian quota (see table 1 for the Canadian and U.S. shares of these stocks). Although the TMGC recommendations were only for fishing year 2024, the portion of the shared quota that would be allocated to Canada in fishing year 2024 was used to project the U.S. portions of the ABCs for these three stocks for 2025. This avoids artificially inflating the U.S. ABC up to the total ABC for the 2025 fishing year. The TMGC will make new recommendations for 2025, which would replace any quotas for these stocks set in this action. Additionally, although GB winter flounder, white hake, and Atlantic halibut are not jointly managed with Canada, there is some Canadian catch of these stocks. Because the total ABC must account for all sources of fishing mortality, expected Canadian catch of GB winter flounder (38 metric tons; mt), white hake (57 mt), and Atlantic halibut (82 mt) is deducted from the total ABC. The U.S. ABC is the amount available to the U.S. fishery after accounting for Canadian catch (see table 3). For stocks without Canadian catch, the U.S. ABC is equal to the total ABC.

The OFLs are currently unknown for GB cod, GB yellowtail flounder, witch flounder, northern windowpane flounder, and Atlantic halibut. For 2024, the SSC recommended maintaining the unknown OFL for GB yellowtail flounder and northern windowpane flounder. Empirical stock assessments are used for these five stocks, and these assessments can no longer provide quantitative estimates of the status determination criteria, nor are they appropriate proxies for stock status determination able to be developed. For each of these stocks, the Council has relied on the SSC to provide advice on the likelihood of preventing overfishing and promoting rebuilding under the proposed ABCs. Based on the SSC's recommendation, we have preliminarily determined that these ABCs are based on the best scientific information available and therefore provide a sufficient limit for preventing overfishing and are consistent with the National Standards. This action does not propose any changes to the status determination criteria for these stocks.

GOM Haddock

In Framework 65, the Council recommended specifications for GOM haddock for fishing years 2023-2025 based on 75 percent of the fishing mortality associated with maximum sustainable yield (FMSY). Subsequently, the Council requested that NMFS take emergency action to increase the fishing year 2023 ABC due to concerns about the significant decrease from 2022 and the potential economic impacts if the catch limit were reached earlier in the fishing year. As part of the final rule for Framework 65 (88 FR 56527; August 18, 2023), NMFS took emergency action, increasing the ABC to the level at 100 percent of FMSY. The ABC for GOM haddock under the emergency rule was in effect for 180 days and was scheduled to expire on February 14, 2024. On January 9, 2024, we extended the emergency action for the remainder of the 2023 fishing year through April 30, 2024 (89 FR 1036).

In Framework 66, the Council has recommended increasing the GOM haddock ABC to the level at 90 percent of FMSY for fishing years 2024 and 2025, based on the recommendation from the SSC. This would be a temporary modification to the standard FMSY scientific uncertainty buffer, until the time of the next management track assessment and update of catch advice. This advice takes into consideration the current status of the GOM haddock stock, which was last assessed in 2022 at 270 percent of the target biomass (BMSY), and seeks to strike a balance between the biological and economic considerations.

White Hake

White hake is in a rebuilding plan, implemented in Framework 61 (2021), which specifies setting the ABCs at 70 percent of FMSY. When the stock was assessed in 2022, it was determined to no longer be overfished, but has not yet rebuilt. In Framework 65 (2023), the Council opted to set the ABC for a single year (2023) and therefore Framework 66 must set the ABCs for fishing years 2024 and 2025. The SSC recommended modifying the rebuilding plan to allow the ABC to be set at 75 percent of FMSY for two years only (2024 and 2025). In 2026, the rebuilding plan would revert to 70 percent of FMSY. The SSC recommended no other changes to the rebuilding plan, including the rebuilding timeline ending in 2031, because the stock is still projected to rebuild within that time.

Annual Catch Limits

Development of Annual Catch Limits

The U.S. ABC for each stock is divided among the various fishery components to account for all sources of fishing mortality. An estimate of catch expected from state waters and the other sub-component (e.g., non-groundfish fisheries or some recreational groundfish fisheries) is deducted from the U.S. ABC. The remaining portion of the U.S. ABC is distributed to the fishery components that receive an allocation for the stock. Components of the fishery that receive an allocation have a sub-annual catch limit (sub-ACL) set by reducing their portion of the ABC (the sub-ABC) to account for management uncertainty and are subject to AMs if they exceed their respective catch limit during the fishing year. For GOM cod and haddock only, the U.S. ABC is first divided between the commercial and recreational fisheries, before being further divided into sub-components and sub-ACLs. This process is described fully in appendix II of the Framework 66 Environmental Assessment.

Sector and Common Pool Allocations

For stocks allocated to sectors, the commercial groundfish sub-ACL is further divided into the non-sector (common pool) sub-ACL and the sector sub-ACL, based on the total vessel enrollment in sectors and the cumulative potential sector contributions (PSC) associated with those sectors. The preliminary sector and common pool sub-ACLs proposed in this action are based on fishing year 2023 PSCs and fishing year 2023 sector rosters. All permits enrolled in a sector, and the vessels associated with those permits, have until April 30, 2024, to withdraw from a sector and fish in the common pool for the 2024 fishing year. In addition to the enrollment delay, all permits that change ownership after the roster deadline may join a sector (or change sector) through April 30, 2024. If changes to the sector rosters occur, updated catch limits will be announced as soon as possible in the 2024 fishing year to reflect the final sector rosters as of May 1, 2024.

Management Uncertainty Buffer for Sectors

In Framework 66, the Council proposes to remove the management uncertainty buffer for the sector sub-ACL for GOM haddock and white hake, if the ASM coverage target is 90 percent or higher. If approved, this measure would remain in place for the next 2 fishing years, unless the Council sets new specifications for fishing year 2025 based on updated assessments. Based on the current assessment schedule, GOM haddock could receive new specifications for fishing year 2025, and in that situation, this measure would not apply in fishing year 2025 unless the Council included it in that action. White hake is not scheduled to receive new specifications until fishing year 2026. The Council's goal is to mitigate the economic impacts of the ACLs for these two potentially constraining stocks by increasing the sector sub-ACLs if the ASM coverage target is high enough to reduce uncertainty. Amendment 23 (87 FR 75852; December 9, 2022) implemented a measure to set the management uncertainty buffer for the sector sub-ACL for each allocated groundfish stock to zero. In years that the ASM coverage target is set at 100 percent, the management uncertainty buffer will default to zero for the sector sub-ACL for allocated stocks, unless the Council's consideration of the 100-percent coverage target warrants specifying a different management uncertainty buffer in order to prevent exceeding the sub-ACL. The process by which the Council evaluates and sets management uncertainty buffers was unchanged by Amendment 23, and the Council may adjust management uncertainty buffers in future actions.

As established in Amendment 23, the ASM coverage target is dependent on the level of funding for ASM and observers, and NMFS must evaluate overall annual appropriations from Congress to finalize the ASM coverage target. NMFS must also provide the target as soon as it can each year so that sectors can establish their rosters and meet annual deadlines. Therefore, on February 20, 2024, the Regional Administrator announced that the preliminary fishing year 2024 ASM coverage target will be 100 percent. NMFS is currently evaluating whether the preliminary coverage target can be met given the level of 2024 appropriations funding for reimbursing sectors for the cost of monitoring, and will announce the final ASM coverage target in the final rule.

If this measure removing the management uncertainty buffers for two stocks is approved, and the final ASM coverage target is set between 90 and 99 percent, sectors' sub-ABCs for GOM haddock and white hake would not be reduced to account for the management uncertainty for fishing year 2024 (see table 5, bold stocks). The removal of the management uncertainty buffer for the sectors alone is not likely to cause the ABC or OFL to be exceeded. The fishery would remain accountable for remaining within the sub-ACLs allocated to it. Further, the revised management uncertainty buffers apply only to sectors and not to the common pool component of the fishery or other sub-ACLs or sub-components for any stocks. In the case of GOM haddock, the recreational fishery and common pool fishery would both retain a management uncertainty buffer; for white hake, only the common pool fishery would have a management uncertainty buffer applied. Therefore, a certain level of uncertainty buffer will continue to exist for each stock's ACL.

If the final ASM coverage target is set below 90 percent, this measure would not be in effect for fishing year 2024, and all stocks would have sectors' sub-ABCs reduced to account for management uncertainty (see table 4). If the final ASM coverage target is set at 100 percent for fishing year 2024, sectors' sub-ABCs would not be reduced for any allocated stocks (see table 5). Table 6 displays the ACLs and sub-ACLs for all stocks with the management uncertainty buffer left in place for fishing year 2025, but this would be updated in a future action based on the coverage target for that fishing year.

Common Pool Total Allowable Catches

The common pool sub-ACL for each allocated stock (except for Southern New England/Mid-Atlantic (SNE/MA) winter flounder) is further divided into trimester total allowable catches (TACs). Table 8 summarizes the common pool trimester TACs proposed in this action.

Incidental catch TACs are also specified for certain stocks of concern (i.e., stocks that are overfished or subject to overfishing) for common pool vessels fishing in the special management programs (i.e., special access programs (SAP) and the Regular B Days-at-Sea (DAS) Program), in order to limit the catch of these stocks under each program. Tables 9 through 12 summarize the proposed Incidental Catch TACs for each stock and the distribution of these TACs to each special management program.

Table 4—Proposed Catch Limits for the 2024 Fishing Year With Management Uncertainty Buffer Left in Place
[mt, live weight]
Stock | Total ACL | Groundfish sub-ACL | Sector sub-ACL | Common pool sub-ACL | Recreational sub-ACL | Midwater trawl fishery | Scallop fishery | Small-mesh fisheries | State waters sub- component | Other sub- component
| A to H | A + B + C | A | B | C | D | E | F | G | H
GB Cod | 515 | 386 | 375 | 11 |  |  |  |  | 43 | 86
GOM Cod | 522 | 474 | 271 | 11 | 192 |  |  |  | 48 | 0
GB Haddock | 6,702 | 6,571 | 6,422 | 149 |  | 131 |  |  | 0 | 0
GOM Haddock | 2,272 | 2,194 | 1,404 | 31 | 759 | 22 |  |  | 48 | 8.0
GB Yellowtail Flounder | 68 | 56 | 53 | 3.0 |  |  | 11.0 | 1.3 | 0 | 0
SNE/MA Yellowtail Flounder | 38 | 33 | 25 | 8.1 |  |  | 2.7 |  | 0.2 | 2.0
CC/GOM Yellowtail Flounder | 946 | 876 | 828 | 48 |  |  |  |  | 30 | 40
American Plaice | 5,247 | 5,192 | 5,046 | 145 |  |  |  |  | 28 | 28
Witch Flounder | 1,196 | 1,146 | 1,104 | 41 |  |  |  |  | 19 | 31
GB Winter Flounder | 1,503 | 1,488 | 1,442 | 45 |  |  |  |  | 0 | 16
GOM Winter Flounder | 772 | 607 | 519 | 88 |  |  |  |  | 153 | 12.1
SNE/MA Winter Flounder | 604 | 441 | 387 | 53 |  |  |  |  | 19 | 144
Redfish | 7,892 | 7,892 | 7,809 | 83 |  |  |  |  | 0 | 0
White Hake | 1,838 | 1,828 | 1,810 | 19 |  |  |  |  | 0 | 10
Pollock | 13,299 | 12,184 | 12,070 | 114 |  |  |  |  | 627 | 488
N. Windowpane Flounder | 127 | 94 | na | 94 |  |  | 27 |  | 0.0 | 6.8
S. Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
na: not allocated to sectors.

Table 5—Proposed Catch Limits for the 2024 Fishing Year With Management Uncertainty Buffer Removed for Sectors
[mt, live weight]
Stock | Total ACL | Groundfish sub-ACL | Sector sub-ACL | Common pool sub-ACL | Recreational sub-ACL | Midwater trawl fishery | Scallop fishery | Small-mesh fisheries | State waters sub- component | Other sub- component
| A to H | A + B + C | A | B | C | D | E | F | G | H
GB Cod | 534 | 406 | 395 | 11 |  |  |  |  | 43 | 86
GOM Cod | 536 | 488 | 285 | 11 | 192 |  |  |  | 48 | 0
GB Haddock | 7,040 | 6,909 | 6,761 | 149 |  | 131 |  |  | 0 | 0
GOM Haddock | 2,346 | 2,268 | 1,478 | 31 | 759 | 22 |  |  | 48 | 8.0
GB Yellowtail Flounder | 70 | 58 | 55 | 3.0 |  |  | 11.0 | 1.3 | 0 | 0
SNE/MA Yellowtail Flounder | 40 | 35 | 27 | 8.1 |  |  | 2.7 |  | 0.2 | 2.0
CC/GOM Yellowtail Flounder | 990 | 920 | 872 | 48 |  |  |  |  | 30 | 40
American Plaice | 5,512 | 5,457 | 5,312 | 145 |  |  |  |  | 28 | 28
Witch Flounder | 1,254 | 1,204 | 1,163 | 41 |  |  |  |  | 19 | 31
GB Winter Flounder | 1,548 | 1,532 | 1,487 | 45 |  |  |  |  | 0 | 16
GOM Winter Flounder | 800 | 635 | 546 | 88 |  |  |  |  | 153 | 12.1
SNE/MA Winter Flounder | 624 | 461 | 408 | 53 |  |  |  |  | 19 | 144
Redfish | 8,303 | 8,303 | 8,220 | 83 |  |  |  |  | 0 | 0
White Hake | 1,933 | 1,923 | 1,905 | 19 |  |  |  |  | 0 | 10
Pollock | 13,934 | 12,819 | 12,705 | 114 |  |  |  |  | 627 | 488
N. Windowpane Flounder | 127 | 94 | na | 94 |  |  | 27 |  | 0.0 | 6.8
S. Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
na: not allocated to sectors.
For bold stocks, management uncertainty buffer would be removed if ASM target is 90 percent or higher. For all other allocated stocks, it is removed only if ASM target is 100.

Table 6—Proposed Catch Limits for the 2025 Fishing Year *
[mt, live weight]
Stock | Total ACL | Groundfish sub-ACL | Sector sub-ACL | Common pool sub-ACL | Recreational sub-ACL | Midwater trawl fishery | Scallop fishery | Small-mesh fisheries | State waters sub- component | Other sub- component
| A to H | A + B + C | A | B | C | D | E | F | G | H
GB Haddock | 5,111 | 5,011 | 4,897 | 113 |  | 100 |  |  | 0 | 0
GOM Haddock | 2,183 | 2,108 | 1,350 | 30 | 729 | 22 |  |  | 46 | 8
GB Yellowtail Flounder | 68 | 56 | 53 | 3.0 |  |  | 11 | 1.3 | 0 | 0
SNE/MA Yellowtail Flounder | 38 | 33 | 25 | 8.1 |  |  | 2.7 |  | 0.2 | 2.0
CC/GOM Yellowtail Flounder | 873 | 808 | 764 | 45 |  |  |  |  | 28 | 37
American Plaice | 5,009 | 4,956 | 4,818 | 139 |  |  |  |  | 26 | 26
Witch Flounder | 1,196 | 1,146 | 1,104 | 41 |  |  |  |  | 19 | 31
GB Winter Flounder | 1,446 | 1,431 | 1,387 | 44 |  |  |  |  | 0 | 15
GOM Winter Flounder | 772 | 607 | 519 | 88 |  |  |  |  | 153 | 12.1
SNE/MA Winter Flounder | 604 | 441 | 387 | 53 |  |  |  |  | 19 | 144
Redfish | 7,859 | 7,859 | 7,777 | 82 |  |  |  |  | 0 | 0
White Hake | 1,825 | 1,816 | 1,797 | 19 |  |  |  |  | 0 | 10
Pollock | 12,683 | 11,619 | 11,510 | 109 |  |  |  |  | 598 | 465
N. Windowpane Flounder | 127 | 94 | na | 94 |  |  | 27 |  | 0.0 | 6.8
S. Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
na: not allocated to sectors.
* Northeast multispecies stocks not included in table 6 do not have catch limits approved or proposed for fishing year 2025.

Table 7—Proposed Catch Limits for the 2026 Fishing Year *
[mt, live weight]
Stock | Total ACL | Groundfish sub-ACL | Sector sub-ACL | Common pool sub-ACL | Recreational sub-ACL | Midwater trawl fishery | Scallop fishery | Small-mesh fisheries | State waters sub- component | Other sub- component
| A to H | A + B + C | A | B | C | D | E | F | G | H
Redfish | 7,997 | 7,997 | 7,913 | 84 |  |  |  |  | 0 | 0
N. Windowpane Flounder | 127 | 94 | na | 94 |  |  | 27 |  | 0.0 | 7
S. Windowpane Flounder | 205 | 30 | na | 30 |  |  | 71 |  | 6 | 98
na: not allocated to sectors.
* Northeast multispecies stocks not included in table 7 do not have catch limits approved or proposed for fishing year 2026.

Table 8—Proposed Fishing Years 2024-2026 Common Pool Trimester TACs
[mt, live weight]
Stock | 2024: Trimester 1 | 2024: Trimester 2 | 2024: Trimester 3 | 2025: Trimester 1 | 2025: Trimester 2 | 2025: Trimester 3 | 2026: Trimester 1 | 2026: Trimester 2 | 2026: Trimester 3
GB Cod | 3.1 | 3.7 | 4.2 |  |  |  |  |  |
GOM Cod | 5.2 | 3.5 | 1.9 |  |  |  |  |  |
GB Haddock | 40.1 | 49.0 | 59.4 | 30.6 | 37.4 | 45.3 |  |  |
GOM Haddock | 8.3 | 8.0 | 14.5 | 8.0 | 7.7 | 13.9 |  |  |
GB Yellowtail Flounder | 0.6 | 0.9 | 1.5 | 0.6 | 0.9 | 1.5 |  |  |
SNE/MA Yellowtail Flounder | 1.7 | 2.3 | 4.1 | 1.7 | 2.3 | 4.1 |  |  |
CC/GOM Yellowtail Flounder | 27.6 | 12.6 | 8.2 | 25.5 | 11.6 | 7.6 |  |  |
American Plaice | 107.5 | 11.6 | 26.2 | 102.6 | 11.1 | 25.0 |  |  |
Witch Flounder | 22.6 | 8.2 | 10.3 | 22.6 | 8.2 | 10.3 |  |  |
GB Winter Flounder | 3.6 | 10.9 | 30.8 | 3.5 | 10.5 | 29.6 |  |  |
GOM Winter Flounder | 32.7 | 33.6 | 22.1 | 32.7 | 33.6 | 22.1 |  |  |
Redfish | 20.7 | 25.7 | 36.4 | 20.6 | 25.5 | 36.3 | 21.0 | 26.0 | 36.9
White Hake | 7.1 | 5.8 | 5.8 | 7.0 | 5.7 | 5.7 |  |  |
Pollock | 31.9 | 39.9 | 42.1 | 30.4 | 38.0 | 40.2 |  |  |

Table 9—Proposed Common Pool Incidental Catch TACs for the 2024-2026 Fishing Years
[mt, live weight]
Stock | Percentage of common pool sub-ACL | 2024 | 2025 | 2026
GB Cod | 1.68 | 0.18 |  |
GOM Cod | 1 | 0.11 |  |
GB Yellowtail Flounder | 2 | 0.06 | 0.06 |
CC/GOM Yellowtail Flounder | 1 | 0.48 | 0.45 |
American Plaice | 5 | 7.27 | 6.94 |
Witch Flounder | 5 | 2.06 | 2.06 |
SNE/MA Winter Flounder | 1 | 0.53 | 0.53 |

Table 10—Percentage of Incidental Catch TACs Distributed to Each Special Management Program
Stock | Regular B DAS program (percent) | Eastern U.S./CA haddock SAP (percent)
GB Cod | 60 | 40
GOM Cod | 100 | n/a
GB Yellowtail Flounder | 50 | 50
CC/GOM Yellowtail Flounder | 100 | n/a
American Plaice | 100 | n/a
Witch Flounder | 100 | n/a
SNE/MA Winter Flounder | 100 | n/a

Table 11—Proposed Fishing Years 2024-2026 Incidental Catch TACs for Each Special Management Program
[mt, live weight]
Stock | Regular B DAS program: 2024 | Regular B DAS program: 2025 | Regular B DAS program: 2026 | Eastern U.S./Canada haddock SAP: 2024 | Eastern U.S./Canada haddock SAP: 2025 | Eastern U.S./Canada haddock SAP: 2026
GB Cod | 0.11 |  |  | 0.07 |  |
GOM Cod | 0.11 |  |  | n/a | n/a | n/a
GB Yellowtail Flounder | 0.03 | 0.03 |  | 0.03 | 0.03 |
CC/GOM Yellowtail Flounder | 0.48 | 0.45 |  | n/a | n/a | n/a
American Plaice | 7.27 | 6.94 |  | n/a | n/a | n/a
Witch Flounder | 2.06 | 2.06 |  | n/a | n/a | n/a
SNE/MA Winter Flounder | 0.53 | 0.53 |  | n/a | n/a | n/a

Table 12—Proposed Fishing Years 2024-2026 Regular B DAS Program Quarterly Incidental Catch TACs
[mt, live weight]
Stock | 2024: 1st Quarter (13%) | 2024: 2nd Quarter (29%) | 2024: 3rd Quarter (29%) | 2024: 4th Quarter (29%) | 2025: 1st Quarter (13%) | 2025: 2nd Quarter (29%) | 2025: 3rd Quarter (29%) | 2025: 4th Quarter (29%) | 2026: 1st Quarter (13%) | 2026: 2nd Quarter (29%) | 2026: 3rd Quarter (29%) | 2026: 4th Quarter (29%)
GB Cod | 0.01 | 0.03 | 0.03 | 0.03 |  |  |  |  |  |  |  |
GOM Cod | 0.01 | 0.03 | 0.03 | 0.03 |  |  |  |  |  |  |  |
GB Yellowtail Flounder | 0.00 | 0.01 | 0.01 | 0.01 | 0.00 | 0.01 | 0.01 | 0.01 |  |  |  |
CC/GOM Yellowtail Flounder | 0.06 | 0.14 | 0.14 | 0.14 | 0.06 | 0.13 | 0.13 | 0.13 |  |  |  |
American Plaice | 0.94 | 2.11 | 2.11 | 2.11 | 0.90 | 2.01 | 2.01 | 2.01 |  |  |  |
Witch Flounder | 0.27 | 0.60 | 0.60 | 0.60 | 0.27 | 0.60 | 0.60 | 0.60 |  |  |  |
SNE/MA Winter Flounder | 0.07 | 0.15 | 0.15 | 0.15 | 0.07 | 0.15 | 0.15 | 0.15 |  |  |  |

Modification to the Accountability Measure Trigger for Atlantic Halibut

As described above, for certain stocks, a portion of the ABC is set aside to account for an estimate of catch by Canadian fisheries. While this is not required by regulation, it has been the practice followed by the groundfish plan development team (PDT) and supported by the SSC and Council for many years. Once the Canadian catch estimate is removed, the resulting amount is called the U.S. ABC. The U.S. ABC is further reduced to provide a buffer for management uncertainty (approximately 5 percent), resulting in the ACL. Currently, if the ACL for Atlantic halibut is exceeded by more than the management uncertainty buffer (i.e., if the U.S. ABC is exceeded), the AMs for the stock are implemented.

Framework 66 proposes to modify the catch threshold for implementing the Atlantic halibut AM. In the situation where the ACL is exceeded by more than the management uncertainty buffer, NMFS would take into account the landings from the Canadian fishery for the last calendar year and determine whether, when combined with the landings by U.S. fisheries (Federal and state), the total ABC had been exceeded as well. Framework 66 does not propose any changes to the AMs themselves, which are a combination of a zero-possession limit and gear-area restrictions.

Considering Canadian landings on a calendar year (rather than the groundfish fishing year, which begins May 1) basis to determine if the total ABC was exceeded would be consistent with how the Canadian catch estimate is set and would ensure Canadian data is available and complete when a total catch evaluation would occur. While NMFS expects the practice followed by the PDT of accounting for Canadian catch as a part of specifications-setting will continue, the modification to this AM catch threshold would not apply in a situation where the U.S. ABC for Atlantic halibut had not been set based on the removal of the Canadian catch estimate from the total ABC.

Temporary Modification to the Catch Threshold for Scallop Fishery Accountability Measures

The scallop fishery has sub-ACLs for GB yellowtail flounder. If the scallop fishery exceeds its sub-ACL, it is subject to AMs that, in general, restrict the scallop fishery in seasons and areas with high encounter rates for this stock. Framework 47 (77 FR 26104; May 2, 2012) set a policy for implementing scallop fishery AMs for groundfish stocks. Currently, the scallop fishery is subject to AMs for these stocks if either: (1) The scallop fishery exceeds its sub-ACL and the total ACL is exceeded; or (2) the scallop fishery exceeds its sub-ACL by 50 percent or more. This policy was intended to provide flexibility for the scallop fishery.

Frameworks 56 (82 FR 35660; August 1, 2017) and 58 (84 FR 34799; July 19, 2019) previously made a change to the policy for GB yellowtail flounder to remove the second catch threshold for the 2017-18 and 2019-20 fishing years, respectively. Framework 66 proposes to reinstate this provision for the 2024 and 2025 fishing years, so that the AMs for GB yellowtail flounder would only be implemented if scallop fishery catch exceeds its sub-ACL by any amount and the total ACL is also exceeded. Unless this proposed modification is extended in a future action, the underlying policy for implementing the scallop fishery's AM for GB cod would be in effect for catches in fishing year 2026 and beyond.

In recent years, a significant portion of the overall ACL has remained uncaught as groundfish vessels have reduced their catch and avoided the stock. If catch leads to exceeding the total ACL, the appropriate AM (depending on the fishery or fisheries that contributed to the overage) would be put in place to prevent subsequent ACL overages and correct the cause of the overage. This measure provides the scallop fishery with flexibility to adjust to current catch conditions and better achieve optimum yield while still providing an incentive to avoid yellowtail flounder.

Minor, Clarifying Regulatory Changes Under Secretarial Authority

Framework 66 would also make minor, clarifying changes in the regulations. Specifically, this action would revise 50 CFR 648.90(a)(5)(i)(F) to reorganize the section to improve clarity and readability regarding the Atlantic halibut accountability measures.

Classification

Pursuant to section 304(b)(1)(A) of the Magnuson-Stevens Act, the NMFS Assistant Administrator has made a preliminary determination that this proposed rule is consistent with Framework 66, other provisions of the Magnuson-Stevens Act, and other applicable law, subject to further consideration after public comment. In making the final determination, the Regional Administrator will consider the data, views, and comments received during the public comment period.

NMFS finds that a 15-day comment period for this action provides a reasonable opportunity for public participation in this action, while also ensuring that the final specifications are in place at the start of the groundfish fishing year on May 1, 2024. Each year setting specifications occurs for some portion of the groundfish stocks. Stakeholders and industry groups are familiar with this process and expect modifications to occur regularly. Further, stakeholder and industry groups have been aware of this action and participated in its development in public meetings throughout the past year. Having a 15-day comment period would improve the likelihood of implementing measures, if approved, on May 1, 2024. A prolonged comment period and subsequent potential delay in implementation would be contrary to the public interest, as it would leave in place default quotas for some stocks that do not already have specifications for fishing year 2024, rather than replacing them with the quotas proposed in this rule, which are based on the most recent, best available science. If the final rule is not implemented by May 1, the fishery would be operating under lower quotas for several stocks than those proposed in Framework 66, and an extended delay could limit economic opportunities for the fishery, as well as lead to confusion and uncertainty. Providing timely access to these stocks is also a potential safely issue. A significant portion of fishing activity occurs in early summer, due to better weather, and, for some smaller vessels, summer may be the only season in which they are able to participate in the fishery.

This proposed rule has been determined to be not significant for purposes of Executive Order (E.O.) 12866.

An Initial Regulatory Flexibility Analysis (IRFA) was prepared for this proposed rule, as required by section 603 of the Regulatory Flexibility Act, 5 U.S.C. 603. The IRFA describes the economic impact that this proposed rule would have on small entities, including small businesses, and also determines ways to minimize these impacts. The IRFA includes this CLASSIFICATION and the Summary of Proposed Measures sections of this proposed rule and analyses contained in Framework 66 and its accompanying Environmental Assessment/Regulatory Impact Review/IRFA. A copy of the full analysis is available from the Council (see ADDRESSES). A summary of the IRFA follows.

Description of the Reasons Why Action by the Agency Is Being Considered and Statement of the Objectives of, and Legal Basis for, this Proposed Rule

This action proposes management measures, including annual catch limits, for the multispecies fishery in order to prevent overfishing, rebuild overfished groundfish stocks, and achieve optimum yield in the fishery, as required by the Magnuson-Stevens Act. A complete description of the action, why it is being considered, and the legal basis for this action are contained in Framework 66, and in the SUPPLEMENTARY INFORMATION section of this proposed rule under the Summary of Proposed Measures heading, and are not repeated here.

Description and Estimate of the Number of Small Entities to Which This Proposed Rule Would Apply

This proposed rule would impact the commercial and recreational groundfish, Atlantic sea scallop, small-mesh multispecies, Atlantic herring, and large-mesh non-groundfish fisheries. Individually permitted vessels may hold permits for several fisheries, harvesting species of fish that are regulated by several different FMPs, beyond those impacted by the proposed action. Furthermore, multiple-permitted vessels and/or permits may be owned by entities affiliated by stock ownership, common management, identity of interest, contractual relationships, or economic dependency. For the purposes of the RFA analysis, the ownership entities, not the individual vessels, are considered to be the regulated entities.

As of June 1, 2023, NMFS had issued 675 commercial limited-access groundfish permits associated with vessels (including those in confirmation of permit history (CPH)), 639 party/charter groundfish permits, 696 limited access and general category Atlantic sea scallop permits, 694 small-mesh multispecies permits, 73 Atlantic herring permits, and 752 large-mesh non-groundfish permits (limited access summer flounder and scup permits). Therefore, this action potentially regulates 3,529 permits. When accounting for overlaps between fisheries, this number falls to 2,029 permitted vessels. Each vessel may be individually owned or part of a larger corporate ownership structure and, for RFA purposes, it is the ownership entity that is ultimately regulated by the proposed action. Ownership entities are identified on June 1st of each year based on the list of all permit numbers, for the most recent complete calendar year, that have applied for any type of Greater Atlantic Region Federal fishing permit. The current ownership data set is based on calendar year 2022 permits and contains gross sales associated with those permits for calendar years 2018 through 2022.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. The determination as to whether the entity is large or small is based on the average annual revenue for the five years from 2018 through 2022. The Small Business Administration (SBA) has established size standards for all other major industry sectors in the U.S., including for-hire fishing (NAICS code 487210). These entities are classified as small businesses if combined annual receipts are not in excess of $8.0 million for all of an entity's affiliated operations. As with commercial fishing businesses, the annual average of the three most recent years (2018-2022) is utilized in determining annual receipts for businesses primarily engaged in for-hire fishing.

Based on the ownership data, 1,538 distinct business entities hold at least one permit that the proposed action potentially regulates. All 1,538 business entities identified could be directly regulated by this proposed action. Of these 1,538 entities, 871 are commercial fishing entities, 291 are for-hire entities, and 376 did not have revenues (were inactive in 2022). Of the 871 commercial fishing entities, 860 are categorized as small entities and 11 are categorized as large entities, per the NMFS guidelines. Furthermore, 520 of these commercial fishing entities held limited access groundfish permits, with 516 of these entities being classified as small businesses and 4 of these entities being classified as large businesses. All 291 for-hire entities are categorized as small businesses.

Description of the Projected Reporting, Record-Keeping, and Other Compliance Requirements of This Proposed Rule

The proposed action does not contain any new collection-of-information requirements under the Paperwork Reduction Act (PRA).

Federal Rules Which May Duplicate, Overlap, or Conflict With This Proposed Rule

The proposed action does not duplicate, overlap, or conflict with any other Federal rules.

Description of Significant Alternatives to the Proposed Action Which Accomplish the Stated Objectives of Applicable Statutes and Which Minimize Any Significant Economic Impact on Small Entities

The economic impacts of each proposed measure are discussed in more detail in sections 6.5 and 7.12 of the draft Framework 66 Environmental Assessment (see ADDRESSES) and are not repeated here. We note that, overall, for the updated groundfish specifications and the modifications to the accountability measures in this proposed rule, the No Action alternative was the only other alternative considered by the Council. There are no significant alternatives that would minimize the economic impacts. The proposed action is predicted to generate $40.8 million in gross revenues for the sector portion of the commercial groundfish trips. This amount is $20.4 million more than the amount of gross revenues under the No Action alternative, but $3.9 million less than the amount of gross revenues generated in fishing year 2022. Small entities engaged in common pool groundfish fishing are expected to be positively impacted by the proposed action as well, relative to the No Action alternative. Small entities engaged in the recreational groundfish fishery are likely to be negatively impacted by the decrease in the GOM haddock sub-ACL. Sub-ACL decreases for groundfish stocks allocated to the Atlantic sea scallop fishery and the large-mesh non-groundfish fishery may negatively affect small entities engaged in those fisheries. The proposed temporary modification to the scallop fishery's AM trigger for GB yellowtail flounder for fishing years 2024 and 2025 will reduce the likelihood of negative impacts to the scallop fishery.

List of Subjects in 50 CFR Part 648

Fisheries, Fishing, Recordkeeping, and reporting requirements.

Dated: March 18, 2024.
Samuel D. Rauch, III,
Deputy Assistant Administrator for Regulatory Programs, National Marine Fisheries Service.

For the reasons stated in the preamble, NMFS proposes to amend 50 CFR part 648 as follows:

PART 648—FISHERIES OF THE NORTHEASTERN UNITED STATES

1. The authority citation for part 648 continues to read as follows:

Authority: 16 U.S.C. 1801 et seq.

2. In § 648.90, revise paragraph (a)(5)(i)(F) and add paragraph (a)(5)(iv)(B) to read as follows:

§ 648.90 NE multispecies assessment, framework procedures and specifications, and flexible area action system.

* * * * *

(a) * * *

(5) * * *

(i) * * *

(F) Atlantic halibut. If NMFS determines, as described in paragraph (a)(5)(i)(D) of this section, that the overall ACL for Atlantic halibut is exceeded by catch from U.S. Federal and state fisheries by any amount greater than the management uncertainty buffer and, after accounting for the amount of landings of Atlantic halibut from Canadian fisheries, as appropriate, that the total ABC for Atlantic halibut has also been exceeded, the applicable AM shall be implemented as described in paragraph (a)(5)(i)(F)(1) of this section. If a sub-ACL for Atlantic halibut is allocated to another fishery, consistent with the process specified at § 648.90(a)(4), and there are AMs for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

(1) Description of AM. When the AM is implemented, any vessel issued a Federal permit for any fishery management plan may not fish for, possess, or land Atlantic halibut for the fishing year in which the AM is implemented, as specified in paragraph (a)(5)(i)(F) of this section, unless otherwise specified in paragraph (a)(5)(i)(F)(2) of this section. Additionally, the applicable AM areas, as defined in paragraph (a)(5)(i)(F)(4) of this section, shall be implemented as follows: Any vessel issued a limited access NE multispecies permit and fishing with trawl gear in the Atlantic Halibut Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6); except that selective trawl gear is not required in the portion of the Trawl Gear AM Area between 41 degrees 40 minutes and 42 degrees from April 1 through July 31. When in effect, a limited access NE multispecies permitted vessel with gillnet gear may not fish or be in the Atlantic Halibut Fixed Gear AM Area from March 1 through October 31, unless transiting with its gear stowed and not available for immediate use as defined in § 648.2, or such gear was approved consistent with the process defined in § 648.85(b)(6).

(2) Vessels exempt from the no possession AM. Vessels issued only a charter/party permit, and/or an Atlantic highly migratory species angling permit, and/or an Atlantic highly migratory species charter/headboat permit are exempt from the no possession AM. This exemption does not apply to any vessel that is issued any other permit that is subject to the AM. For example, a vessel issued a Northeast multispecies charter/party permit and a bluefish charter/party permit would be exempt from the no possession AM, but a vessel issued a Northeast multispecies charter/party permit and a commercial bluefish permit would not be exempt from the no possession AM.

(3) Review of the AM. If the overall ACL is exceeded by more than 20 percent, the Council shall revisit the AM in a future action.

(4) Atlantic halibut AM area. The AM areas defined below are bounded by the following coordinates, connected in the order listed by rhumb lines, unless otherwise noted.

Table 1 to Paragraph (a)(5)(i)(F)(4)
Atlantic halibut trawl gear AM area: Points | Atlantic halibut trawl gear AM area: N latitude | Atlantic halibut trawl gear AM area: W longitude
1 | 42°00′ | 69°20′
2 | 42°00′ | 68°20′
3 | 41°30′ | 68°20′
4 | 41°30′ | 69°20′

Table 2 to Paragraph (a)(5)(i)(F)(4)
Atlantic halibut gillnet gear AM area: Points | Atlantic halibut gillnet gear AM area: N latitude | Atlantic halibut gillnet gear AM area: W longitude
1 | 43°10′ | 69°40′
2 | 43°10′ | 69°30′
3 | 43°00′ | 69°30′
4 | 43°00′ | 69°40′

* * * * *

(iv) * * *

(B) 2024 and 2025 fishing year threshold for implementing the Atlantic sea scallop fishery AM for GB yellowtail flounder. For the 2024 and 2025 fishing years, if scallop fishery catch exceeds the GB yellowtail flounder sub-ACL specified in paragraph (a)(4) of this section, and total catch exceeds the overall ACL for that stock, then the applicable scallop fishery AM will take effect, as specified in § 648.64 of the Atlantic sea scallop regulations. For the 2026 fishing year and onward, the threshold for implementing scallop fishery AMs for GB yellowtail flounder will return to that listed in paragraph (a)(5)(iv)(A) of this section.

* * * * *

[FR Doc. 2024-06103 Filed 3-21-24; 8:45 am]

BILLING CODE 3510-22-P